SURFACE TRANSPORTATION BOARD

[Docket No. FD 36813]

Cedar Hills Rail LLC—Operation Exemption—Ab Eco Park LLC

Cedar Hills Rail LLC (CHR), a noncarrier, has filed a verified notice of exemption pursuant to 49 CFR 1150.31 to operate over approximately 7,150 feet of what is currently private track (the Line) located in a 90-acre industrial park (the Park). The Park is located in the Town of North Haven, Conn., and the City of New Haven, Conn., along the Hartford Line of CSX Transportation, Inc. (CSXT).¹ CHR's parent company, AB Eco Park LLC (AB Eco), owns the Park.

¹ CHR further states that the Park extends northeasterly from the New Haven-North Haven dividing line through the Town of North Haven to “the ending of the 8th Line, being North 58 degrees 24'57” West,” and southwesterly from the North Haven-New Haven dividing line approximately 2,200 feet, including through the City of New Haven. (Verified Notice 1-2.)

The verified notice states that CHR and AB Eco are entering into a track lease and operating agreement, under which CHR will provide common carrier rail service over the Line. According to CHR, it will interchange with CSXT and its rail operations will consist primarily of switching railcars to and from shippers in the Park. CHR explains that before operations begin, it will rehabilitate the existing track and replace the switch with CSXT. CHR also states that, upon consummation of the transaction, it will contract with a not yet identified rail carrier to operate the Line on CHR's behalf, and that the new operator will also seek authority from the Board to operate over the Line.²

² CHR acknowledges in its verified notice that it will retain a common carrier obligation even if it contracts with another rail carrier to operate the Line.

CHR certifies that its projected annual revenues are not expected to exceed those that would qualify it as a Class III rail carrier and are not expected to exceed $5 million. CHR also certifies that its operation of the Line will not involve any provision or agreement that would limit future interchange with a third-party carrier. The transaction may be consummated on or after November 7, 2024, the effective date of the exemption (30 days after the verified notice was filed).³

³ CHR filed a supplement on October 8, 2024, clarifying its plans for the Line and providing a certification regarding its expected revenue. The filing date of the supplement will be deemed the filing date of the verified notice.

If the verified notice contains false or misleading information, the exemption is void ab initio. Petitions to revoke the exemption under 49 U.S.C. 10502(d) may be filed at any time. The filing of a petition to revoke will not automatically stay the effectiveness of the exemption. Petitions for stay must be filed no later than October 31, 2024 (at least seven days before the exemption becomes effective).

All pleadings, referring to Docket No. FD 36813, must be filed with the Surface Transportation Board either via e-filing on the Board's website or in writing addressed to 395 E Street SW, Washington, DC 20423-0001. In addition, a copy of each pleading must be served on CHR's representative, John K. Fiorilla, Dyer & Peterson PC, 605 Main Street, Suite 104, Riverton, NJ 08077.

According to CHR, this action is categorically excluded from environmental review under 49 CFR 1105.6(c) and from historic preservation reporting requirements under 49 CFR 1105.8(b).

Board decisions and notices are available at www.stb.gov.

Decided: October 21, 2024.
By the Board, Scott M. Zimmerman, Acting Director, Office of Proceedings.
Tammy Lowery,
Clearance Clerk.

[FR Doc. 2024-24747 Filed 10-23-24; 8:45 am]

BILLING CODE 4915-01-P